Space Policy Directive-6 of December 16, 2020

National Strategy for Space Nuclear Power and Propulsion

Memorandum for the Vice President[,] the Secretary of State[,] the Secretary of Defense[,] the Secretary of Commerce[,] the Secretary of Transportation[,] the Secretary of Energy[,] the Director of the Office of Management and Budget[,] the Assistant to the President for National Security Affairs[,] the Administrator of the National Aeronautics and Space Administration[,] the Chairman of the Nuclear Regulatory Commission[, and] the Director of the Office of Science and Technology Policy

Section 1. Policy. The ability to use space nuclear power and propulsion (SNPP) systems safely, securely, and sustainably is vital to maintaining and advancing United States dominance and strategic leadership in space. SNPP systems include radioisotope power systems (RPSs) and fission reactors used for power or propulsion in spacecraft, rovers, and other surface elements. SNPP systems can allow operation of such elements in environments in which solar and chemical power are inadequate. They can produce more power at lower mass and volume compared to other energy sources, thereby enabling persistent presence and operations. SNPP systems also can shorten transit times for crewed and robotic spacecraft, thereby reducing radiation exposure in harsh space environments.

National Security Presidential Memorandum-20 (NSPM-20) of August 20, 2019 (Launch of Spacecraft Containing Space Nuclear Systems), updated the process for launches of spacecraft containing space nuclear systems. It established it as the policy of the United States to “develop and use space nuclear systems when such systems safely enable or enhance space exploration or operational capabilities.”

Cooperation with commercial and international partners is critical to achieving America's objectives for space exploration. Presidential Policy Directive 4 of June 28, 2010 (National Space Policy), as amended by the Presidential Memorandum of December 11, 2017 (Reinvigorating America's Human Space Exploration Program), established it as the policy of the United States to “[l]ead an innovative and sustainable program of exploration with commercial and international partners to enable human expansion across the solar system and to bring back to Earth new knowledge and opportunities.”

This memorandum establishes a national strategy to ensure the development and use of SNPP systems when appropriate to enable and achieve the scientific, exploration, national security, and commercial objectives of the United States. In the context of this strategy only, the term “development” includes the full development process from design through testing and production, and the term “use” includes launch, operation, and disposition. This memorandum outlines high-level policy goals and a supporting roadmap that will advance the ability of the United States to use SNPP systems safely, securely, and sustainably. The execution of this strategy will be subject to relevant budgetary and regulatory processes and to the availability of appropriations.

Sec. 2. Goals. The United States will pursue goals for SNPP development and use that are both mission-enabling and ambitious in their substance and their timeline. These goals will enable a range of existing and future space missions, with the aim of accelerating achievement of key milestones, including in-space demonstration and use of new SNPP capabilities. This memorandum establishes the following such goals for the Nation:

(a) Develop uranium fuel processing capabilities that enable production of fuel that is suitable to lunar and planetary surface and in-space power, nuclear electric propulsion (NEP), and nuclear thermal propulsion (NTP) applications, as needed. These capabilities should support the ability to produce different uranium fuel forms to meet the nearest-term mission needs and, to the extent feasible, should maximize commonality—meaning use of the same or similar materials, processes, designs, or infrastructure—across these fuel forms. To maximize private-sector engagement and cost savings, these capabilities should be developed to enable a range of terrestrial as well as space applications, including future commercial applications;

(b) Demonstrate a fission power system on the surface of the Moon that is scalable to a power range of 40 kilowatt-electric (kWe) and higher to support a sustained lunar presence and exploration of Mars. To the extent feasible, this power system should align with mission needs for, and potential future government and commercial applications of, in-space power, NEP, and terrestrial nuclear power;

(c) Establish the technical foundations and capabilities—including through identification and resolution of the key technical challenges—that will enable options for NTP to meet future Department of Defense (DoD) and National Aeronautics and Space Administration (NASA) mission requirements; and

(d) Develop advanced RPS capabilities that provide higher fuel efficiency, higher specific energy, and longer operational lifetime than existing RPS capabilities, thus enabling survivable surface elements to support robotic and human exploration of the Moon and Mars and extending robotic exploration of the solar system.

Sec. 3. Principles. The United States will adhere to principles of safety, security, and sustainability in its development and use of SNPP systems, in accordance with all applicable Federal laws and consistent with international obligations and commitments.

(a) Safety. All executive departments and agencies (agencies) involved in the development and use of SNPP systems shall take appropriate measures to ensure, within their respective roles and responsibilities, the safe development, testing, launch, operation, and disposition of SNPP systems. For United States Government SNPP programs, the sponsoring agency holds primary responsibility for safety. For programs involving multiple agencies, the terms of cooperation shall designate a lead agency with primary responsibility for safety in each stage of development and use.

(i) Ground development. Activities associated with ground development, including ground testing, of SNPP systems shall be conducted in accordance with applicable Federal, State, and local laws and existing authorities of regulatory agencies.

(ii) Launch. NSPM-20 established safety guidelines and safety analysis and review processes for Federal Government launches of spacecraft containing space nuclear systems, including SNPP systems, and for launches for which the Department of Transportation has statutory authority to license as commercial space launch activities (commercial launches). These guidelines and processes address launch and any subsequent stages during which accidents may result in radiological effects on the public or the environment—for instance, in an unplanned reentry from Earth orbit or during an Earth flyby. Launch activities shall be conducted in accordance with these guidelines and processes.

(iii) Operation and disposition. The operation and disposition of SNPP systems shall be planned and conducted in a manner that protect human and environmental safety and national security assets. Fission reactor SNPP systems may be operated on interplanetary missions, in sufficiently high orbits, and in low-Earth orbits if they are stored in sufficiently high orbits after the operational part of their mission. In this context, a sufficiently high orbit is one in which the orbital lifetime of the spacecraft is long enough for the fission products to decay to a level of radioactivity comparable to that of uranium-235 by the time it reenters the Earth's atmosphere, and the risks to existing and future space missions and of collision with objects in space are minimized. Spacecraft operating fission reactors in low-Earth orbits shall incorporate a highly reliable operational system to ensure effective and controlled disposition of the reactor.

(b) Security. All agencies involved in the development and use of SNPP systems shall take appropriate measures to protect nuclear and radiological materials and sensitive information, consistent with sound nuclear nonproliferation principles. For United States Government SNPP programs, the sponsoring agency holds primary responsibility for security. For programs involving multiple agencies, the terms of cooperation shall designate a lead agency with primary responsibility for security in each stage of development and use. The use of highly enriched uranium (HEU) in SNPP systems should be limited to applications for which the mission would not be viable with other nuclear fuels or non-nuclear power sources. Before selecting HEU or, for fission reactor systems, any nuclear fuel other than low-enriched uranium (LEU), for any given SNPP design or mission, the sponsoring agency shall conduct a thorough technical review to assess the viability of alternative nuclear fuels. The sponsoring agency shall provide to the respective staffs of the National Security Council, the National Space Council, the Office of Science and Technology Policy, and the Office of Management and Budget a briefing that provides justification for why the use of HEU or other non-LEU fuel is required, and any steps the agency has taken to address nuclear safety, security, and proliferation-related risks. The Director of the Office of Science and Technology Policy shall ensure, through the National Science and Technology Council, that other relevant agencies are invited to participate in these briefings.

(c) Sustainability. All agencies involved in the development and use of SNPP systems shall take appropriate measures to conduct these activities in a manner that is suitable for the long-term sustainment of United States space capabilities and leadership in SNPP.

(i) Coordination and Collaboration. To maximize efficiency and return on taxpayer investment, the heads of relevant agencies shall seek and pursue opportunities to coordinate among existing and future SNPP development and use programs. Connecting current efforts with likely future applications will help ensure that such programs can contribute to long-term United States SNPP capabilities and leadership. Agencies also shall seek opportunities to partner with the private sector, including academic institutions, in order to facilitate contributions to United States SNPP capabilities and leadership. To help identify opportunities for collaboration, the heads of relevant agencies should conduct regular technical exchanges among SNPP programs, to the extent that such exchanges are consistent with the principle of security and comply with applicable Federal, State, and local laws. Agencies shall coordinate with the Department of State when seeking opportunities for international partnerships.

(ii) Commonality. The heads of relevant agencies shall seek to identify and use opportunities for commonality among SNPP systems, and between SNPP and terrestrial nuclear systems, whenever doing so could advance program and policy objectives without unduly inhibiting innovation or market development, or hampering system suitability to specific mission applications. For example, opportunities for commonality may exist in goals (e.g., demonstration timeline), reactor design, nuclear fuels (e.g., fuel type and form, and enrichment level), supplementary systems (e.g., power conversion, moderator, reflector, shielding, and system vessel), methods (e.g., additive manufacturing of fuel or reactor elements), and infrastructure (e.g., fuel supply, testing facilities, launch facilities, and workforce).

(iii) Cost-effectiveness. The heads of relevant agencies should pursue SNPP development and use solutions that are cost-effective while also consistent with the principles of safety and security. For any program or system, the heads of such agencies should seek to identify the combination of in-space and ground-based testing and certification that will best qualify the system for a given mission while ensuring public safety.

Sec. 4. Roles and Responsibilities. (a) The Vice President, on behalf of the President and acting through the National Space Council, shall coordinate United States policy related to use of SNPP systems.

(b) The Secretary of State shall, under the direction of the President, coordinate United States activities related to international obligations and commitments and international cooperation involving SNPP.

(c) The Secretary of Defense shall conduct and support activities associated with development and use of SNPP systems to enable and achieve United States national security objectives. When appropriate, the Secretary of Defense shall facilitate private-sector engagement in DoD SNPP activities.

(d) The Secretary of Commerce shall promote responsible United States commercial SNPP investment, innovation, and use, and shall, when consistent with the authorities of the Secretary, ensure the publication of clear, flexible, performance-based rules that are applicable to use of SNPP and are easily navigated. Under the direction of the Secretary of Commerce, the Department of Commerce (DOC) shall ascertain and communicate the views of private-sector partners and potential private-sector partners to relevant agency partners in order to facilitate public-private collaboration in SNPP development and use.

(e) The Secretary of Transportation's statutory authority includes licensing commercial launches and reentries, including vehicles containing SNPP systems. Within this capacity, the Secretary of Transportation shall, when appropriate, facilitate private-sector engagement in the launch or reentry aspect of SNPP development and use activities, in support of United States science, exploration, national security, and commercial objectives. To help ensure the launch safety of an SNPP payload, and consistent with 51 U.S.C. 50904, a payload review may be conducted as part of a license application review or may be requested by a payload owner or operator in advance of or apart from a license application.

(f) The Secretary of Energy shall, in coordination with sponsoring agencies and other agencies, as appropriate, support development and use of SNPP systems to enable and achieve United States scientific, exploration, and national security objectives. When appropriate, the Secretary of Energy shall work with sponsoring agencies and DOC to facilitate United States private-sector engagement in Department of Energy (DOE) SNPP activities. Under the direction of the Secretary of Energy and consistent with the authorities granted to DOE, including authorities under the Atomic Energy Act of 1954 (AEA), as amended, 42 U.S.C. 2011, et seq., DOE may authorize ground-based SNPP development activities, including DOE activities conducted in coordination with sponsoring agencies and private-sector entities. As directed in NSPM-20, the Secretary of Energy shall maintain, on a full-cost recovery basis, the capability and infrastructure to develop, furnish, and conduct safety analyses for space nuclear systems for use in United States Government space systems.

(g) The Administrator of NASA shall conduct and support activities associated with development and use of SNPP systems to enable and achieve United States space science and exploration objectives. The Administrator of NASA shall establish the performance requirements for SNPP capabilities necessary to achieve those objectives. When appropriate, the Administrator of NASA shall facilitate private-sector engagement in NASA SNPP activities, and shall coordinate with the Secretary of Commerce and, as appropriate, the Secretary of State and the Secretary of Energy, to help facilitate private-sector SNPP activities.

(h) The Nuclear Regulatory Commission (NRC) has statutory authority under the AEA for licensing and regulatory safety and security oversight of commercial nuclear activities taking place within the United States. The NRC should, as appropriate and particularly in circumstances within NRC authority where DOE regulatory authorities cannot be applied, enable private-sector engagement in SNPP development and use activities in support of United States science, exploration, national security, and commercial objectives.

(i) The Director of the Office and Science and Technology Policy shall coordinate United States policy related to research and development of SNPP systems.

Sec. 5. Roadmap. The United States will pursue a coordinated roadmap for federally-supported SNPP activities to achieve the goals and uphold the principles established in this memorandum. This roadmap comprises the following elements, which the relevant agencies should pursue consistent with the following objective timeline, subject to relevant budgetary and regulatory processes and to the availability of appropriations:

(a) By the mid-2020s, develop uranium fuel processing capabilities that enable production of fuel that is suitable for lunar and planetary surface and in-space power, NEP, and NTP applications, as needed.

(i) Identify relevant mission needs. DoD and NASA should provide to DOE any mission needs (e.g., power density, environment, and timelines) relevant to the identification of fuels suitable for planetary surface and in-space power, NEP, and NTP applications.

(ii) Identify candidate fuel or fuels. DoD and NASA, in cooperation with DOE and private-sector partners, as appropriate, should identify candidate fuel or fuels to meet the identified mission requirements. This review and assessment should account for current and expected United States capabilities to produce and qualify for use candidate fuels, and for potential commonality of fuels or fuel variants across multiple planetary surface and in-space power, in-space propulsion, and terrestrial applications.

(iii) Qualify at least one candidate fuel. DoD and NASA, in cooperation with DOE and private-sector partners, as appropriate, should qualify a fuel or fuels for demonstrations of a planetary surface power reactor and an in-space propulsion system. While seeking opportunities to use private-sector-partner capabilities, agencies should ensure that the Federal Government retains an ability for screening and qualification of candidate fuels.

(iv) Supply fuel for demonstrations. DOE, in cooperation with NASA and DoD, and with private-sector partners, as appropriate, should identify feedstock and uranium that can be made available for planetary surface power and in-space propulsion demonstrations. DOE shall ensure that any provision of nuclear material for SNPP will not disrupt enriched uranium supplies for the United States nuclear weapons program and the naval propulsion program, and that SNPP needs are included among broader considerations of nuclear fuel supply provisioning and management.

(b) By the mid- to late-2020s, demonstrate a fission power system on the surface of the Moon that is scalable to a power range of 40 kWe and higher to support sustained lunar presence and exploration of Mars.

(i) Initiate a surface power project. NASA should initiate a fission surface power project for lunar surface demonstration by 2027, with scalability to Mars exploration. NASA should consult with DoD and other agencies, and with the private sector, as appropriate, when developing project requirements.

(ii) Conduct technology and requirements assessment. NASA, in coordination with DoD and other agencies, and with private-sector partners, as appropriate, should evaluate technology options for a surface power system including reactor designs, power conversion, shielding, and thermal management. NASA should work with other agencies, and private-sector partners, as appropriate, to evaluate opportunities for commonality among other SNPP needs, including in-space power and terrestrial power needs, possible NEP technology needs, and reactor demonstrations planned by NASA, other agencies, or the private sector.

(iii) Engage the private sector. DOE and NASA should determine a mechanism or mechanisms for engaging with the private sector to meet NASA's SNPP surface power needs in an effective manner consistent with the guiding principles set forth in this memorandum. In evaluating mechanisms, DOE and NASA should consider the possibility of NASA issuing a request for proposal for the development and construction of the surface power reactor system or demonstration.

(iv) System development. NASA should work with DOE, and with other agencies and private-sector partners, as appropriate, to develop the lunar surface power demonstration project.

(v) Conduct demonstration mission. NASA, in coordination with other agencies and with private-sector partners, as appropriate, should launch and conduct the lunar surface power demonstration project.

(c) By the late-2020s, establish the technical foundations and capabilities—including through identification and resolution of the key technical challenges—that will enable NTP options to meet future DoD and NASA mission needs.

(i) Conduct requirements assessment. DoD and NASA, in cooperation with DOE, and with other agencies and private-sector partners, as appropriate, should assess the ability of NTP capabilities to enable and advance existing and potential future DoD and NASA mission requirements.

(ii) Conduct technology assessment. DoD and NASA, in cooperation with DOE, and with other agencies and private-sector partners, as appropriate, should evaluate technology options and associated key technical challenges for an NTP system, including reactor designs, power conversion, and thermal management. DoD and NASA should work with their partners to evaluate and use opportunities for commonality with other SNPP needs, terrestrial power needs, and reactor demonstration projects planned by agencies and the private sector.

(iii) Technology development. DoD, in coordination with DOE and other agencies, and with private-sector partners, as appropriate, should develop reactor and propulsion system technologies that will resolve the key technical challenges in areas such as reactor design and production, propulsion system and spacecraft design, and SNPP system integration.

(d) By 2030, develop advanced RPS capabilities that provide higher fuel efficiency, higher specific energy, and longer operational lifetime than existing RPS capabilities, thus enabling survivable surface elements to support robotic and human exploration of the Moon and Mars and extending robotic exploration of the solar system.

(i) Maintain RPS capability. Mission sponsoring agencies should assess their needs for radioisotope heat source material to meet emerging mission requirements, and should work with DOE to jointly identify the means to produce or acquire the necessary material on a timeline that meets mission requirements.

(ii) Engage the private sector. NASA, in coordination with DOE and DOC, should conduct an assessment of opportunities for engaging the private sector to meet RPS needs in an effective manner consistent with the guiding principles established in this memorandum.

(iii) Conduct technology and requirements assessment. NASA, in coordination with DOE and DoD, and with other agencies and private-sector partners, as appropriate, should assess requirements for next-generation RPS systems and evaluate technology options for meeting those requirements.

(iv) System development. DOE, in coordination with NASA and DoD, and with other agencies and private-sector partners, as appropriate, should develop one or more next-generation RPS system or systems to meet the goals of higher fuel efficiency, higher specific energy, and longer operational lifetime for the required range of power.

Sec. 6. Implementation. The Vice President, through the National Space Council, shall coordinate implementation of this memorandum.

Sec. 7. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Secretary of Energy is authorized and directed to publish this memorandum in the Federal Register.

THE WHITE HOUSE,

Washington, December 16, 2020

[FR Doc. 2020-28272

Filed 12-18-20; 8:45 am]

Billing code 6450-01-P